FEDERAL MARITIME COMMISSION

[Docket No. FMC-2024-0025]

Policy Statement on Class Action Complaints

AGENCY: Federal Maritime Commission.

ACTION: Notice of availability.

SUMMARY: The Federal Maritime Commission (Commission) is issuing this document to advise the public of the availability of a new policy statement. The policy statement explains that private parties are not precluded from bringing class action complaints at the Commission.

DATES: Policy statement On Class Action Complaints announced in this document was issued on January 2, 2025.

ADDRESSES: The policy statement can be found at the following link: https://www2.fmc.gov/readingroom/proceeding/24-29/.

FOR FURTHER INFORMATION CONTACT: David Eng, Secretary; Phone: (202) 523-5725; Email: Secretary@fmc.gov.

SUPPLEMENTARY INFORMATION: On January 2, 2025, the Commission issued a policy statement to provide guidance to shippers and other third parties on bringing class action complaints at the Commission. As the policy statement explains, class action complaints are not precluded by Title 46 or the Commission's interpretation of the statute. In accordance with 46 CFR 502.12, the Commission may follow the Federal Rules of Civil Procedure “for situations which are not covered by a specific Commission rule . . . to the extent that they are consistent with sound administrative practice.” The Commission may use the procedures of Rule 23 of the Federal Rules of Civil Procedure to evaluate class action complaints filed with the Commission because the requirements under § 502.12 are satisfied.

The policy statement can be found at the following link: https://www2.fmc.gov/readingroom/proceeding/24-29/.

This document is issued under authority of 5 U.S.C. 552, 46 U.S.C. 46105 and 46 CFR 502.12.

By the Commission.
David Eng,
Secretary.

[FR Doc. 2025-00074 Filed 1-6-25; 8:45 am]

BILLING CODE 6730-02-P